DEPARTMENT OF COMMERCE

National Oceanic and Atmospheric Administration

RIN 0648-XA606

Second Notice of Intent To Prepare an Environmental Impact Statement Related to Two Joint State and Tribal Resource Management Plans for Puget Sound Hatchery Programs and Reopening of Comment Period

AGENCY: National Marine Fisheries Service (NMFS), National Oceanic and Atmospheric Administration (NOAA), Commerce.

ACTION: Notice of intent; request for comments.

SUMMARY: Pursuant to the National Environmental Policy Act (NEPA), this notice announces that NMFS intends to obtain additional information necessary to prepare an Environmental Impact Statement (EIS) for two hatchery Resource Management Plans and appended Hatchery and Genetic Management Plans (HGMPs) jointly proposed by the Washington Department of Fish and Wildlife and the Puget Sound Treaty Tribes (referred to as the co-managers) for NMFS's evaluation and determination under the Endangered Species Act for threatened salmon. The previous notice of intent to prepare an EIS was published on May 12, 2004. NMFS is now reopening the comment period for 30 days.

NMFS provides this notice to remind other agencies and the public of its plans to analyze effects related to the action, and obtain information that may not have been available in 2004 pertinent to the scope of issues to include in the EIS.

DATES: Written or electronic comments from all interested parties are encouraged and must be received no later than 5 p.m. Pacific Daylight Time August 29, 2011.

ADDRESSES: All comments concerning the preparation of the EIS and NEPA process should be addressed to Steve Leider, NMFS, 510 Desmond Drive, SE., Suite 103, Lacey, WA 98503; facsimile (360) 753-9517. Comments may be submitted by e-mail to the following address: PShatcheryEIS.nwr@noaa.gov with a subject line containing the document identifier “Puget Sound Hatcheries EIS Second Comment Period.”

FOR FURTHER INFORMATION CONTACT: Steve Leider, NMFS, by phone at (360) 753-4650. In addition, further information regarding this project, including the co-managers' Resource Management Plans and associated HGMPs may be found at http://www.nwr.noaa.gov/Salmon-Harvest-Hatcheries/Hatcheries/Puget-Sound-Hatchery.cfm.

SUPPLEMENTARY INFORMATION:

Listed Species in This Notice

The following species and Evolutionarily Significant Units (ESUs) and Distinct Population Segments (DPSs) under NMFS jurisdiction would potentially be affected by the proposed action:

Puget Sound Chinook salmon (Oncorhynchus tshawytscha).

Hood Canal summer-run chum salmon (O. keta).

Stellar sea lion (Eumetopias jubatus).

Species listed since 2004:

Puget Sound steelhead (O. mykiss).

Southern Resident killer whale (Orcinus orca).

Puget Sound/Georgia Basin bocaccio (Sebastes paucispinis).

Puget Sound/Georgia Basin yelloweye rockfish (S. ruberrimus).

Puget Sound/Georgia Basin canary rockfish (S. pinniger).

Green sturgeon (Acipenser medirostris).

Eulachon (Thaleichthys pacificus).

Listed species regulated by the United States Fish and Wildlife Service that may be affected by the proposed action include bull trout (Salvelinus confluentus), brown pelicans (Pelecanus occidentalis), marbled murrelet (Brachyramphus marmoratus marmoratus), and Northern spotted owls (Strix occidentalis caurina).

Background

On May 14, 2004 (69 FR 26363), NMFS announced its intent to prepare an EIS pursuant to NEPA (42 U.S.C. et seq.), and to conduct public scoping meetings related to the action. A 60-day public comment period was opened from May 12, 2004 to July 12, 2004, and public scoping meetings were held at four locations in June, 2004, including Mount Vernon, Seattle, Belfair, and Port Hadlock, WA. NMFS sought public input on the scope of the required NEPA analyses at that time, in addition to seeking comment for a range of reasonable alternatives and impacts to resources. Since the 2004 scoping period, NMFS has begun its analyses on the action, but due in part to the elapsed time since the first notice, NMFS is reopening the comment period on the EIS to ask the public for input on possible new information related to this action.

NEPA requires Federal agencies to conduct environmental analysis of the proposed actions to determine if the actions may affect the human environment. The co-managers' Resource Management Plans are the proposed framework through which they would jointly manage hatchery programs in Puget Sound, rearing steelhead and Chinook, coho, pink, sockeye, and chum salmon while meeting conservation requirements specified under the Endangered Species Act (ESA). NMFS's action of evaluating the co-managers Resource Management Plans for ESA compliance is a major Federal action subject to environmental review under NEPA. Therefore, NMFS is seeking additional public input on the scope of the required NEPA analysis, including reasonable alternatives and the associated impacts of any alternatives.

The co-managers have jointly submitted to NMFS two Resource Management Plans for hatcheries in Puget Sound. One plan describes hatchery programs that produce Chinook salmon. The other plan describes hatchery programs producing other anadromous salmonid species. Appended to the overarching Resource Management Plans are individual HGMPs for each hatchery program. The HGMPs describe each hatchery program, including measures proposed by the co-managers to minimize risks of adversely affecting listed fish. Both plans consider potential effects on Puget Sound Chinook and steelhead, and Hood Canal summer-run chum. NMFS listed as threatened the two salmon species in March 1999 (64 FR 14308) and steelhead in May 2007 (72 FR 26722).

NMFS will perform an environmental review of the Resource Management Plans and prepare an EIS. From the 2004 internal and public scoping process, the EIS will consider potential impacts on listed and non-listed species and their habitats, water quality and quantity, wildlife and marine mammals, socioeconomics, tourism and recreation, environmental justice, cultural resources, human health, and cumulative impacts.

NMFS is rigorously exploring and objectively evaluating a full range of reasonable alternatives in the EIS, including the proposed action (evaluation of the co-managers' Resource Management Plans) and a no action alternative. Additional alternatives resulting from the 2004 internal and public scoping processes include the following: (1) A decrease in artificial production in selected programs that have a primary goal of augmenting fisheries, and (2) an increase in artificial production in selected programs that have a primary goal of augmenting fisheries, where additional hatchery capacity exists.

Request for Comments

Specific comments and suggestions are invited from all interested parties to ensure that the EIS considers the full range of issues and alternatives related to the proposed action. In particular, NMFS requests information that may have become available since 2004 that relates to: other possible alternatives; the direct, indirect, and cumulative impact that implementation of the proposed Resource Management Plans could have on endangered and threatened species and their communities and habitats; potential adaptive management and/or monitoring provisions; funding issues; baseline environmental conditions in Clallam, Island, King, Kitsap, Jefferson, Mason, Pierce, San Juan, Skagit, Snohomish, Thurston, and Whatcom Counties; other plans or projects that might be relevant to this proposed action; and potential methods to minimize and mitigate for impacts.

Written comments concerning the proposed action and the environmental review should be directed to NMFS as described above (see ADDRESSES). All comments and materials received, including names and addresses, will become part of the administrative record and may be released to the public. The environmental review of this project will be conducted in accordance with the requirements of the NEPA of 1969 as amended (42 U.S.C. 4321 et seq.,) National Environmental Policy Act Regulations (40 CFR parts 1500-1508), other appropriate Federal laws and regulations, and policies and procedures of NMFS for compliance with those regulations.

Dated: July 26, 2011.
Therese Conant,
Acting Chief, Endangered Species Division, Office of Protective Resources, National Marine Fisheries Service.

[FR Doc. 2011-19262 Filed 7-28-11; 8:45 am]

BILLING CODE 3510-22-P